DEPARTMENT OF THE INTERIOR

National Park Service

Rescheduled Second Public Scoping Meeting for Environmental Planning for Use of Kenilworth Park, Washington, DC

AGENCY: National Park Service, Interior.

ACTION: Rescheduled second public scoping meeting by the National park Service (NPS) pursuant to the National Environmental Policy Act (NEPA) and NPS Policy related to planning for the use of Kenilworth Park.

SUMMARY: The meeting originally scheduled for January 22, 2000, had to be postponed for reasons out of the control of NPS. On February 5, 2000, NPS is holding the rescheduled second public scoping meeting in furtherance of its NEPA responsibilities and NPS Policy, in order to elicit additional public input concerning the future use of Kenilwork Park in light of the NPS-directed clean-up and stabilization activities in the park.

Following a November 30, 1999 public scoping meeting, NPS has been preparing a Development Plan/Environmental Assessment (EA) for future uses of this park. At the February 5, 2000 meeting, NPS will discuss alternative conceptual schemes, along with any additional ideas for the future uses of the park. NPS will also inform the public of the current NPS activities at the park. When this EA is completed, it will be available for public review prior to the NPS decision on this EA pursuant to NEPA.

DATE: The meeting will take place on Saturday, February 5, 2000 from 10 a.m. to 1 p.m.

ADDRESSES: The meeting will be held at Zion Baptist Church of Eastland Gardens, located at 1234 Kenilworth Avenue, NE, Washington, DC.

For more information, contact the National Capital Parks-East public information officer at (202) 690-5185.

Dated: January 28, 2000.
Karen Taylor Goodrich,
Superintendent, National Capital Parks-East.

[FR Doc. 00-2305 Filed 2-2-00; 8:45 am]

BILLING CODE 4310-70-M